DEPARTMENT OF LABOR

Employment and Training Administration

[TA-W-63,020]

Owens Brockway, Fulton, NY; Notice of Termination of Investigation

Pursuant to section 221 of the Trade Act of 1974, as amended, an investigation was initiated on March 18, 2008 in response to a petition filed by a company official on behalf of workers at Owens Brockway, Fulton, New York.

The petitioner has requested that the petition be withdrawn. Consequently, the investigation has been terminated.

Signed in Washington, DC, this 4th day of April 2008.
Richard Church,
Certifying Officer, Division of Trade Adjustment Assistance.

[FR Doc. E8-7741 Filed 4-17-08; 8:45 am]

BILLING CODE 4510-FN-P